DEPARTMENT OF HEALTH AND HUMAN SERVICES

Centers for Disease Control and Prevention

Agency for Toxic Substances and Disease Registry

[Program Announcement 05002]

Public Health Conference Grant Program; Notice of Availability of Funds Amendment

A notice announcing the availability of Fiscal Year 2005 funds to award a Grant Agreement to Support Public Health Conference Support Grant Agreement published in the Federal Register on November 2, 2004, Volume 69, Number 211, pages 63541-63546. The notice is amended as follows:

On page 63543, second column, under III.3 Other, Special Requirements, second bullet, delete the bullet that reads, “Applicants who do not submit a LOI will not be eligible to submit an application for review or funding.”

On page 63543, third column, under IV.2 Content and Form of Submission, Letter of Intent (LOI), first paragraph, delete the fifth sentence that reads, “If you do not submit a LOI, you will not be allowed to submit an application.”

On page 63544, second column, under IV.3 Submission Dates and Times, delete the fourth paragraph that reads, “Applicants who do not submit an LOI will not be eligible to submit an application for review or funding.”

Dated: January 14, 2005.
William P. Nichols,
Director, Procurement and Grants Office, Centers for Disease Control and Prevention.

[FR Doc. 05-1205 Filed 1-21-05; 8:45 am]

BILLING CODE 4163-18-P